DEPARTMENT OF AGRICULTURE

Natural Resources Conservation Service

Notice of Proposed Changes to the National Handbook of Conservation Practices for the Natural Resources Conservation Service

AGENCY: Natural Resources Conservation Service (NRCS).

ACTION: Notice of availability of proposed changes in the NRCS National Handbook of Conservation Practices for public review and comment.

SUMMARY: Notice is hereby given of the intention of NRCS to issue a series of revised conservation practice standards in the National Handbook of Conservation Practices. These standards include: Animal Mortality Facility (Code 316), Critical Area Planting (Code 342), Composting Facility (Code 317), Grazing Land Mechanical Treatment (Code 548), Hedgerow Planting (422), Irrigation Canal or Lateral (Code 320), Irrigation Land Leveling (Code 464), Irrigation System, Surface, and Subsurface (Code 443), Riparian Herbaceous Cover (Code 390), Rock Barrier (Code 555), Roofs and Covers (Code 367), Runoff Management System (Code 570), Shallow Water Development and Management (Code 646), Streambank and Shoreline Protection (Code 580), Upland Wildlife Habitat Management (Code 645), and Wetland Wildlife Habitat Management (Code 644). NRCS State Conservationists who choose to adopt these practices for use within their State will incorporate them into section IV of their respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is effective June 15, 2010.

Comment Date: Submit comments on or before July 15, 2010. Final versions of these new or revised conservation practice standards will be adopted after the close of the 30-day period and after consideration of all comments.

ADDRESSES: Comments should be submitted using any of the following methods:

• Mail: Wayne Bogovich, National Agricultural Engineer, Conservation Engineering Division, Department of Agriculture, Natural Resources Conservation Service, 1400 Independence Avenue, SW., Room 6136 South Building, Washington, DC 20250.

• E-mail: wayne.bogovich@wdc.usda.gov.

FOR FURTHER INFORMATION CONTACT: Wayne Bogovich, National Agricultural Engineer, Conservation Engineering Division, Department of Agriculture, Natural Resources Conservation Service, 1400 Independence Avenue, SW., Room 6136 South Building, Washington, DC 20250.

Electronic copies of these standards can be downloaded or printed from the following Web site: ftp://ftp-fc.sc.egov.usda.gov/NHQ/practice-standards/federal-register/. Requests for paper versions or inquiries may be directed to Wayne Bogovich, National Agricultural Engineer, Conservation Engineering Division, Department of Agriculture, Natural Resources Conservation Service, 1400 Independence Avenue, SW., Room 6136 South Building, Washington, DC 20250.

SUPPLEMENTARY INFORMATION: The amount of the proposed changes varies considerably for each of the Conservation Practice Standards addressed in this notice. To fully understand the proposed changes, individuals are encouraged to compare these changes with each standard's current version as shown at: http://www.nrcs.usda.gov/technical/Standards/nhcp.html. To aid in this comparison, following are highlights of the proposed revisions to each standard:

Animal Mortality Facility (Code 316)—Design criteria was changed based on the revision of Practice Code 367—Roofs and Covers. Disposal Pits (masonry, treated timber, and pre-cast concrete structures constructed in ground with bottom of the pit exposed to the soil) has been omitted from the standard since the majority of State regulations no longer allows these types of structures, nor is it considered environmentally friendly.

Critical Area Planting (Code 342)—The practice was revised to include a purpose to stabilize stream and channel banks and shorelines and provided additional criteria to establish cover on the stream banks and shorelines. In addition, seeding and planting considerations were added to address pollinators and wildlife.

Composting Facility (Code 317)—An additional purpose for organic matter was added based on comments received from specialty groups. Design criteria for composting facility roofs was changed based on the revision of Practice Code 367—Roofs and Covers.

Grazing Land Mechanical Treatment (Code 548)—The Criteria changed referring to and adding prescribed grazing following treatment. Considerations were expanded and references were added.

Hedgerow Planting (422)—The purpose was broadened for aquatic organisms and expanded to add habitat for terrestrial species, specifically pollinators. Criteria were added for pollinator habitat. References were also added.

Irrigation Canal or Lateral (Code 320)—The Purpose was revised and references were added.

Irrigation Land Leveling (Code 464)—The Purpose was revised and the Considerations were expanded.

Irrigation System, Surface and Subsurface (Code 443)—Changes included: removed the No. unit; incorporated criteria and considerations for Multi-Outlet Pipelines, thus eliminating the need for NRCS Conservation Practice Standard “Above Ground, Multi Outlet Pipeline” (431); expanded Considerations; and added References.

Riparian Herbaceous Cover (Code 390)—No substantive changes.

Rock Barrier (Code 555)—Wording changes made to make the practice more broadly applicable to “agricultural land” rather limiting it to land suitable for cultivation. The Considerations were re-written to provide context for the stated Consideration. Additional Considerations were added. The Plans and Specifications section was expanded to clearly state the minimum requirements for the content of plans and specifications.

Roofs and Covers (Code 367)—Changes to the standard include: changing the name from Waste Facility Cover to Roofs and Covers, and adding additional purpose and criteria for reducing greenhouse gas emissions and odor reduction. Additional criteria for Biogas control, utilization, and Safety has been incorporated into the standard. New criteria for design of roofs and covers have been incorporated into this standard and referenced in Animal Mortality Facility (Code 316) and Composting Facility (Code 317) for use consistency.

Stormwater Runoff Control (Code 570)—The title was changed from Runoff Management System. The definition was changed to reflect the new title and the broader scope of the practice. The purpose was re-written to include erosion and sedimentation, water quality, and water quantity.

Shallow Water Development and Management (Code 646)—No substantive changes.

Streambank and Shoreline Protection (Code 580)—The reference to 322 was removed and replaced with a reference to 342.

Upland Wildlife Habitat Management (Code 645)—No substantive changes.

Wetland Wildlife Habitat Management (Code 644)—No substantive changes.

Above Ground, Multi Outlet Pipeline (Code 431)—Rescission of this practice will be effective October 1, 2010. This practice has been incorporated into the Criteria and Considerations of Irrigation System, Surface and Subsurface (Code 443).

Atmospheric Resource Management (Code 370)—Rescission of this practice will be effective October 1, 2010. There are several practice standards that will be in place that will replace Code 370, including Air Filtration and Scrubbing (Code 371), Combustion System Improvement (Code 372), and Dust Control on Unpaved Roads and Surfaces (Code 373). There are also several interim standards that may be used.

Channel Bank Vegetation (Code 322)—Rescission of this practice will be effective October 1, 2010. The changes in both Critical Area Planting (Code 342) and Streambank and Shoreline Protection (Code 580) will formally delete the need for Channel Bank Vegetation (Code 322).

Dated: Signed this 9th day of June, 2010, in Washington, DC.
Dave White,
Chief, Natural Resources Conservation Service.

[FR Doc. 2010-14343 Filed 6-14-10; 8:45 am]

BILLING CODE 3410-16-P